DEPARTMENT OF TRANSPORTATION

Federal Aviation Administration

Sixteenth Meeting: Special Committee (227) Standards of Navigation Performance (Navigation Information on Electronic Maps)

AGENCY: Federal Aviation Administration (FAA), U.S. Department of Transportation (DOT).

ACTION: Notice of Sixteenth Special Committee 227 Meeting.

SUMMARY: The FAA is issuing this notice to advise the public of the Sixteenth Special Committee 227 meeting.

DATES: The meeting will be held December 2nd-4th from 9:00 a.m.-4:30 p.m.

ADDRESSES: The meeting will be held at RTCA, Inc., 1150 18th Street NW., Suite 910, Washington, DC, 20036, Tel: (202) 330-0663.

FOR FURTHER INFORMATION CONTACT: The RTCA Secretariat, 1150 18th Street NW., Suite 910, Washington, DC, 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a) (2) of the Federal Advisory Committee Act (Pub. L. 92-463, 5 U.S.C., App.), notice is hereby given for a meeting of Special Committee 227. The agenda will include the following:

Wednesday-Friday, December 2-4, 2015

1. Welcome and Administrative Remarks

2. Introductions

3. Agenda Overview

4. RTCA Overview Presentation

5. Background on RTCA, MOPS, and Process

6. NextGen PBN Roadmap and SC-227

7. Performance Based Navigation: ICAO PBN Manual, DO-236 and DO-283.

8. SC-227 Scope and Terms of Reference review

9. Overview of DO-257A

10. SC-227 Structure and Organization of Work

11. Proposed Schedule

a. Face to Face

b. Teleconference

12. RTCA workspace presentation

13. Other Business

14. Date of Next Meeting

15. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 18, 2015.
Latasha Robinson,
Management & Program Analyst, Next Generation, Enterprise Support Services Division, Federal Aviation Administration.

[FR Doc. 2015-24097 Filed 9-21-15; 8:45 am]

BILLING CODE 4910-13-P